DEPARTMENT OF LABOR

Employment and Training Administration

[TA-W-81,177]

Heartland Bakery Company, LLC, a Subsidiary of Maplehurst Bakeries, LLC, Including On-Site Leased Workers From Selectremedy and Westaff, Du Quoin, IL; Amended Certification Regarding Eligibility To Apply for Worker Adjustment Assistance

In accordance with Section 223 of the Trade Act of 1974, as amended (“Act”), 19 U.S.C. 2273, the Department of Labor issued a Certification of Eligibility to Apply for Worker Adjustment Assistance on January 20, 2012, applicable to workers of Heartland Bakery Company, LLC, a subsidiary of Maplehurst Bakeries, LLC, including on-site leased workers from Select Remedy, Du Quoin, Illinois. The Department's notice of determination was published in the Federal Register on February 14, 2012 (77 FR 8283). Workers were engaged in employment related to the production of cookies.

At the request of the State Workforce Office, the Department reviewed the certification for workers of the subject firm.

The company reports that workers from Westaff were employed on-site at the Du Quoin, Illinois location of Heartland Bakery Company, LLC. The Department has determined that these workers were sufficiently under the control of the subject firm to be considered leased workers.

Based on these findings, the Department is amending this certification to include workers of Westaff working on-site at the Du Quoin, Illinois location of Heartland Bakery Company, LLC.

The amended notice applicable to TA-W-81,177 is hereby issued as follows:

“All workers of Heartland Bakery Company, LLC, a subsidiary of Maplehurst Bakeries, LLC, including on-site leased workers from SelectRemedy and Westaff, Du Quoin, Illinois, who became totally or partially separated from employment on or after February 13, 2010, through January 20, 2014, and all workers in the group threatened with total or partial separation from employment on the date of certification through two years from the date of certification, are eligible to apply for adjustment assistance under Chapter 2 of Title II of the Trade Act of 1974, as amended.”

Signed in Washington, DC this 9th day of May, 2012.
Del Min Amy Chen,
Certifying Officer, Office of Trade Adjustment Assistance.

[FR Doc. 2012-25529 Filed 10-16-12; 8:45 am]

BILLING CODE 4510-FN-P